DEPARTMENT OF TRANSPORTATION

Pipeline and Hazardous Materials Safety Administration

49 CFR Parts 106, 107, 171, 172, 173, 174, 175, 176, 177, 178, 179 and 180

[Docket No. PHMSA-2025-0032 (HM-265B)]

RIN 2137-AF74

Hazardous Materials: Mandatory Regulatory Reviews To Unleash American Energy and Improve Government Efficiency

AGENCY: Pipeline and Hazardous Materials Safety Administration (PHMSA), Department of Transportation (DOT).

ACTION: Advance notice of proposed rulemaking (ANPRM).

SUMMARY: PHMSA is publishing this advance notice of proposed rulemaking (ANPRM) to solicit stakeholder feedback on whether to repeal or amend any requirements in the Hazardous Materials Rulemaking Procedures and Program Procedures, or the Hazardous Materials Regulations to eliminate undue burdens on the identification, development, and use of domestic energy resources and to improve government efficiency.

DATES: Comments on this ANPRM must be received by August 4, 2025. However, PHMSA will consider late-filed comments to the extent practicable, consistent with 49 Code of Federal Regulations (CFR) 106.70.

ADDRESSES: You may submit comments identified by the Docket Number using any of the following ways:

1. E-Gov Web: https://www.regulations.gov. This site allows the public to enter comments on any Federal Register notice issued by any agency. Follow the online instructions for submitting comments.

2. Mail: Docket Management System: U.S. Department of Transportation, 1200 New Jersey Avenue SE, West Building Ground Floor, Room W12-140, Washington, DC 20590-0001.

3. Hand Delivery: DOT Docket Management System: West Building Ground Floor, Room W12-140, 1200 New Jersey Avenue SE, Washington, DC 20590-0001, between 9:00 a.m. and 5:00 p.m. EST, Monday through Friday, except Federal holidays.

4. Fax: 202-493-2251.

Instructions: Please include the docket number PHMSA-2025-0032 (HM-265B) at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act Statement: In accordance with 5 U.S.C. 553(c), DOT solicits comments from the public to inform its rulemaking process. DOT posts these comments, without edit, including any personal information the commenter provides, to https://www.regulations.gov, as described in the system of records notice (DOT/ALL-14 FDMS), which can be reviewed at www.dot.gov/privacy.

Confidential Business Information: Confidential Business Information (CBI) is commercial or financial information that is both customarily and treated as private by its owner. Under the Freedom of Information Act (FOIA, 5 U.S.C. 552), CBI is exempt from public disclosure. It is important that you clearly designate the comments submitted as CBI if: your comments responsive to this document contain commercial or financial information that is customarily treated as private; you treat such information as private; and your comment is relevant or responsive to this notice. Pursuant to 49 CFR 105.30, you may ask PHMSA to provide confidential treatment to the information you give to the agency by taking the following steps: (1) mark each page of the original document submission containing CBI as “Confidential;” (2) send PHMSA, along with the original document, a second copy of the original document with the CBI deleted; and (3) explain why the information that you are submitting is CBI. Submissions containing CBI should be sent to Yul B. Baker Jr., Standards and Rulemaking Division, Office of Hazardous Materials Safety, (202) 366-8553. Hard copies may be sent to 2nd Floor, 1200 New Jersey Avenue SE, Washington, DC 20590-0001. Any materials PHMSA receives that is not specifically designated as CBI will be placed in the public docket.

Docket: For access to the docket to read background documents or comments received, go to https://www.regulations.gov. Follow the online instructions for accessing the docket. Alternatively, you may review the documents in person at the street address listed above.

FOR FURTHER INFORMATION CONTACT: Yul B. Baker Jr., Standards and Rulemaking Division, Office of Hazardous Materials Safety, (202) 366-8553, PHMSA, East Building, PHH10, 1200 New Jersey Avenue SE, Washington, DC 20590.

SUPPLEMENTARY INFORMATION:

I. Executive Summary

PHMSA is publishing this advance notice of proposed rulemaking (ANPRM) to solicit stakeholder feedback on whether to repeal or amend any requirements in the Rulemaking Procedures (49 CFR part 106), the Hazardous Materials Program Procedures (49 CFR part 107), or the Hazardous Materials Regulations (HMR; 49 CFR parts 171 through 180)—as well as any letters of interpretation, guidance documents, or other material implementing those regulations—to eliminate undue burdens on the identification, development, and use of domestic energy resources and to improve government efficiency. As part of this effort, PHMSA is seeking stakeholder feedback regarding opportunities to identify widely used hazardous material special permits with established safety records for conversion into deregulatory provisions with broader applicability. PHMSA is also seeking stakeholder feedback regarding opportunities to introduce efficiencies to its petitions process. Finally, PHMSA also solicits stakeholder feedback on whether to amend the HMR to require PHMSA to conduct periodic, mandatory regulatory reviews.

II. Background

PHMSA's HMR play an essential role in the energy supply chain by ensuring the safe, reliable, and affordable transportation of energy products to millions of Americans. Annually, more than 3.3 billion tons of hazardous materials are shipped by rail, vessel, highway, and air that include a wide range of energy commodities such as more than 88 million barrels of crude oil, three million shipments of radioactive materials (including nuclear fuel and waste products), more than 230 million barrels of ethanol shipped by rail as well as other biofuels.¹ The HMR also govern transportation of critical minerals, explosives used in energy production activity, chemicals used in refinery processes, waste products from energy exploration and production activity and other materials integral to the identification, development, extraction, and use of domestic energy resources. Ensuring compliance with the HMR is the responsibility of a wide range of entities, from online internet retailers to railroads, commercial trucking companies, and large oil and gas companies. The HMR impose incident reporting obligations (part 171, subpart B) and the Hazardous Materials Program Procedures impose a registration and fee requirement (part 107, subpart G) on offerors and carriers of hazardous materials. Each of the entities subject to the HMR must invest scarce resources in satisfying some combination of PHMSA registration, reporting, qualification, packaging, labeling, documentation, testing, security, and emergency response planning requirements. The costs of those investments are often passed along from suppliers of refined and unrefined energy products to other entities in the energy supply chain, to the industrial manufacturing and commercial goods sectors, and, ultimately, to the American consumer. PHMSA must ensure that the burdens imposed by the HMR on stakeholders are necessary to serve the public interest.

¹ See, e.g., U.S. Departments of Transportation and Commerce, 2017 Economic Census: Transportation, available at https://www.census.gov/content/dam/Census/library/publications/2017/econ/ec17tcf-us.pdf; U.S. Energy Information Administration, Petroleum & Other Liquids, available at https://www.eia.gov/petroleum/data.php#movements; U.S. Environmental Protection Agency, Transportation of Radioactive Material, available at www.epa.gov/radtown/transportation-radioactive-material.

Conducting periodic, retrospective reviews of the HMR is one way to achieve that objective. Presidents of both political parties dating to the 1970s have called on Federal agencies by Executive order (E.O.) to conduct broad reviews of existing regulations,² and scholars and other experts in administrative law have long touted the benefits of adhering to such a process.³ The Department of Transportation (DOT) requires review of regulations on a 10-year review cycle, as specified by 11(d) of DOT Order 2011.6B, “Policies and Procedures for Rulemakings.” ⁴ DOT has previously issued plans and regulations requiring retrospective review ⁵ and solicited stakeholder input to inform those reviews on multiple occasions and is currently taking recommendations on the DOT-wide opportunities for modification or repeal of regulations to reduce undue compliance burdens.⁶ Congress requires periodic regulatory reviews on a limited scale; section 610 of the Regulatory Flexibility Act (5 U.S.C. 601 et seq.) requires PHMSA and other agencies to conduct post-issuance review of agency rules that impose a “significant impact on a substantial number of small entities” such as small business and local governments.

² See E.O. 12044, “Improving Government Regulation,” 43 FR 12661 (Mar. 24, 1978); E.O. 12291, “Federal Regulation,” 46 FR 13193 (Feb. 19, 1981); E.O. 12866, “Regulatory Planning and Review,” 58 FR 51735 (Oct. 4, 1993); E.O. 13563 “Improving Regulation and Regulatory Review,” 76 FR 3821 (Jan. 21, 2011).

³ See, e.g., Lori S. Bennear and Jonathan B. Wiener, “Periodic Review of Agency Regulation” (June 7, 2021) (report to the Admin. Conf. of the United States).

⁴ DOT Order 2100.6B, “Policies and Procedures for Rulemakings” (Mar. 10, 2025), available at https://www.transportation.gov/sites/dot.gov/files/2025-03/Rulemaking%20Order%202100.6B%20Signed%203.10.2025.pdf.

⁵ DOT-Office of the Secretary, “Plan for Implementation of Executive Order 13563” (Aug. 2, 2011); DOT-Office of the Secretary, “Administrative Rulemaking, Guidance, and Enforcement Procedures,” 84 FR 71714 (Dec. 27, 2019), previously codified in 49 CFR part 5, repealed by DOT-Office of the Secretary, “Administrative Rulemaking, Guidance and Enforcement Procedures,” 86 FR 17292 (April 2, 2021).

⁶ DOT—Office of the Secretary, “Notification of Regulatory Review,” 82 FR 45750 (Oct. 2, 2017); DOT-Office of the Secretary, “Ensuring Lawful Regulation: Reducing Regulation and Controlling Regulatory Costs,” 90 FR 14593 (Apr. 3, 2025). Congress has also passed legislation providing for periodic regulatory reviews on a limited scale; for example, section 610 of the Regulatory Flexibility Act (5 U.S.C. 601 et seq.) requires post-issuance review of agency rules imposing a significant impact on a “substantial number of small entities” such as small business and local governments.

While PHMSA has conducted retrospective regulatory reviews in the past,⁷ PHMSA expects there remain requirements in the HMR that produce regulatory burdens larger than the benefits they provide. The HMR contain numerous requirements that have been in effect for decades without undergoing a comprehensive cost-benefit review.⁸ Neither the Hazardous Materials Transportation Act, Public Law 93-633, codified at 49 U.S.C. 5101 et seq., nor the HMR have ever contained an explicit cost-benefit requirement; rather, any cost-benefit analyses performed have been pursuant to discretionary Federal policy.⁹

⁷ See, e.g., DOT, “Plan for Implementation of E.O. 13564: Retrospective Review and Analysis of Existing Rules” (Aug. 2011).

⁸ Some requirements of the HMR can be traced to regulations governing transportation of explosives, inflammable liquids, inflammable compressed gasses and poisonous gasses adopted by the Interstate Commerce Commission in implementing the Transportation of Explosives Act of 1908, Public Law 60-174.

⁹ See supra note 1.

PHMSA has received stakeholder comments questioning the rigor of cost-benefit analyses supporting proposed amendments to its HMR.¹⁰ Congress has also on at least one occasion raised concerns about the sufficiency of cost-benefit analysis that supported a PHMSA regulation, going so far as to enact legislation requiring the Government Accountability Office (GAO) to evaluate an economic analysis conducted by PHMSA.¹¹ Though the costs of many—and perhaps most—of the provisions of the HMR are justified by their benefits, conducting periodic and comprehensive retrospective regulatory review ensures that any compliance burdens remain justified in light of the evolution of technology, operational practices, and PHMSA's regulatory requirements.

¹⁰ See, e.g., Attny General of Louisiana et al., Doc. No. PHMSA-2021-0058-7063, “Comments on Docket No. PHMSA-2021-0058 (HMS264A)—Hazardous Materials: Suspension of HMR Amendments Authorizing Transportation of Liquefied Natural Gas by Rail,” at 6-8 (Feb. 28, 2022).

¹¹ See, e.g., Fixing America's Surface Transportation Act of 2015, Public Law 114-94 at sec. 7311, codified at 49 U.S.C. 20168 (directing GAO to conduct an independent evaluation of PHMSA's research and analysis on the costs, benefits, and effects of electrically controlled pneumatic brake systems required by PHMSA, “Hazardous Materials: Enhanced Tank Car Standards and Operational Controls for High-Hazard Flammable Trains,” 80 FR 26644 (May 8, 2015)).

Like his predecessors, President Trump has issued a series of E.O.s directing PHMSA and other Federal agencies to take a hard look at their existing regulations, particularly with respect to those that impose burdens on the energy sector.¹² E.O. 14154, “Unleashing American Energy,” mandates in section 3 that “the heads of all agencies shall review all existing regulations . . . to identify those agency actions that impose an undue burden on the identification, development, or use of domestic energy resources . . . .” In addition, E.O. 14241, “Reinvigorating America's Beautiful Clean Coal Industry,” states in section 2 that “[i]t is a national priority to support the domestic coal industry by removing Federal regulatory barriers that undermine coal production . . .” and mandates in section 6 that “. . . the Secretary of Transportation . . . shall identify any guidance, regulations, programs, and policies within their respective executive department or agency that seek to transition the Nation away from coal production and electricity generation.” Similarly, section 1 of E.O. 14156, “Declaring a National Energy Emergency,” promotes the integrity and expansion of U.S. energy infrastructure to ensure a “reliable, diversified, and affordable supply of energy to drive our Nation's manufacturing, transportation, agriculture, and defense industries and to sustain the basics of modern life and military preparedness.” Lastly, E.O. 14192, “Unleashing Prosperity Through Deregulation,” acknowledges at section 1 the cumulative burden placed on “[U.S.] economic growth and ability to build and innovate, and hampers [U.S.] global competitiveness” and therefore calls on agencies to identify opportunities to alleviate unnecessary regulatory compliance burdens imposed on industry and the public.

¹² See, e.g., E.O. 14192, “Unleashing Prosperity Through Deregulation,” 90 FR 9065 (Feb. 6, 2025); E.O. 14152, “Unleashing American Energy,” 90 FR 8353 (Jan. 29, 2025); E.O. 14156, “Declaring a National Energy Emergency,” 90 FR 8433 (Jan. 29, 2025).

To serve the public interest and satisfy the requirements in President Trump's recent directives, PHMSA is seeking feedback from stakeholders on several key points:

1. Identification of specific regulatory provisions within the HMR, as listed in section III below. This includes any implementing guidance or interpretations of those regulations that may impose an undue burden on identification, development, and use of domestic energy resources. Additionally, stakeholders should consider examples of government inefficiency, where compliance requirements impose significant burdens relative to minimal safety benefits or hinder technological innovations.

2. The nature and magnitude of these burdens, including the specific categories and number of regulated entities affected, as well as the compliance costs and implementation challenges experienced by those entities.

3. Suggestions for potential amendments (including any rescissions) to those regulatory provisions.

4. An assessment of the incremental compliance costs and benefits (including benefits pertaining to avoided compliance costs, safety harms, and environmental harms) anticipated from those amendments.

5. The safety consequences of any proposed amendments.

PHMSA may also consider adopting a procedural requirement mandating periodic regulatory reviews (e.g., on a 5- or 3-year cycle) of the provisions in the HMR. PHMSA may hold a public meeting soon to supplement or to clarify the materials received in response to this ANPRM.

Concerning incremental cost and benefit information, PHMSA is seeking per-unit, aggregate, and programmatic (both a one-time implementation and recurring) data. Explanation of the bases or methodologies employed in generating cost and benefit data, including data sources and calculations, is valuable so that PHMSA can explain the support for any estimates it can provide that accompany a proposed rule. Other commenters may weigh in on the validity and accuracy of the data. Please also identify the baseline (e.g., a particular edition of a consensus industry standard; widespread voluntary practice; or documentation of sample surveys and other data or information) from which those incremental costs and benefits arise. When estimates are approximate or uncertain, consider using a range or specifying the distribution in other ways.

When responding to a specific question below please note the topic letter and question number in your comment. PHMSA will review and evaluate all comments received, as well as late-filed comments to the extent practicable.

III. Topics Under Consideration

A. Procedural Regulations and Actions

1. Should PHMSA consider incorporating within its HMR an explicit requirement to conduct retrospective regulatory reviews at specified intervals to identify undue burdens and improve government efficiency? Please identify any specific regulatory language would be appropriate for that purpose. What interval would be appropriate? How should PHMSA provide opportunities for stakeholder engagement in those reviews?

2. Are there existing special permits (issued or requested) or petitions for rulemaking that PHMSA should consider prioritizing to reduce regulatory burdens and improve government efficiency?

3. What regulatory amendments, interpretations, or determinations (e.g., preemption determinations pursuant to part 107, subpart C), or revised protocols (e.g., Memoranda of Understanding with other Federal agencies or States) could eliminate undue burdens or improve government efficiency by improving or clarifying the scope of PHMSA's regulatory oversight relative to that of each of other Federal agencies and State regulatory authorities? Please identify specific amendments or rescissions meriting consideration.

4. Do PHMSA regulations, implementing guidance, or practices governing special permits in its Hazardous Materials Program Procedures (part 107, subpart B) impose an undue burden on affected stakeholders? Please identify any specific amendments to regulations, guidance, or protocols meriting consideration, as well as the technical, safety, and economic reasons (including the categories and number of affected entities) supporting those recommended amendments.

5. Should PHMSA consider requesting impact data in its Hazardous Materials Program Procedures (part 107, subpart B) to assist in quantifying the benefits that might be realized by the issuance of the permit?

6. Do PHMSA compliance practices concerning the National Environmental Policy Act place an undue burden on affected stakeholders? Are there any categorical exclusions PHMSA should adopt for its regulatory oversight activities? If so, please identify the activities meriting a categorical exclusion, as well as the technical, safety, and environmental bases for those additional categorical exclusions. Are there any categorical exclusions employed by other Federal agencies that PHMSA should adopt pursuant to 42 U.S.C. 4336c?

7. Are there any interpretations or widely used special permits with established safety records meriting codification within PHMSA's HMR because they would facilitate identification, development, and use of domestic energy resources or would otherwise improve government efficiency?

8. What number of small businesses, small organizations, or small government jurisdictions, as defined in the Regulatory Flexibility Act (5 U.S.C. 6010 et seq.) and its implementing regulations are subject to HMR requirements or are bear significant costs associated with HMR compliance by PHMSA-jurisdictional entities? Please provide information about the nature and types of activities of such small businesses and other small entities. Are there any existing HMR requirements that disproportionately impact small businesses or other small entities? Are there alternative regulatory approaches the agency should consider that would achieve its regulatory objectives while minimizing any significant economic impact on small businesses or other small entities?

B. Hazardous Materials Program Procedures (49 CFR Part 107) and Hazardous Materials Regulations (49 CFR Parts 171 Through 180)

1. What provisions of the HMR either impose an undue burden on identification, development, and use of domestic energy resources, or are examples of government inefficiency, insofar as they impose outsized compliance burdens for comparatively small safety benefits or limit technological innovation? Are there any HMR provisions that are unnecessary because their safety benefits that are adequately addressed by other HMR requirements?

2. Do the terms defined within various provisions (typically at the beginning of each subpart) of the Hazardous Materials Program Procedures or the HMR impose an undue burden on affected stakeholders? Please identify any specific regulatory amendments meriting consideration, as well as the technical, safety, and economic reasons (including the categories and number of affected entities) supporting those recommended amendments.

3. Are there opportunities for efficiency gains in Hazardous Materials Program Procedures requirements at part 107 governing each of the designation of approval and certifying agencies (subpart E), registration of certain manufacturers, assemblers, repairers, inspectors, testers and design certification engineers for cargo tanks and cargo tank vehicles (subpart F), and approvals of cylinder inspection, testing, and qualification entities (subpart I) for affected stakeholders? Please identify any specific regulatory amendments meriting consideration, as well as the technical, safety, and economic reasons (including the categories and number of affected entities) supporting those recommended amendments.

4. What consensus international or industry standards and recommended practices (or updated editions thereof) merit incorporation by reference within the HMR because they would eliminate undue burdens on affected stakeholders? What consensus international or industry standards and recommended practices currently incorporated by reference within the HMR merit updating or revision. Please identify the pertinent standards and recommended practices as well the specific provisions of the HMR that should reference those standards, as well as the technical, safety, and economic reasons (including the categories and number of affected entities) supporting those recommended amendments.

5. Do HMR reporting and notification requirements (e.g., part 171, subpart B) impose an undue burden on affected stakeholders? Are any of those reporting requirements inefficient because of their limited safety value compared to their associated costs? Please identify any specific regulatory amendments meriting consideration, as well as the technical, safety, and economic reasons (including the categories and number of affected entities) supporting those recommended amendments.

6. Do procedures in the HMR at part 171, subpart C, authorizing use of certain international transportation standards (e.g., the International Civil Aviation Organization Technical Instructions for the Safe Transport of Dangerous Goods by Air or Transport Canada's Transportation of Dangerous Goods Regulations) impose an undue burden on affected stakeholders? Please identify any specific regulatory amendments meriting consideration, as well as the technical, safety, and economic reasons (including the categories and number of affected entities) supporting those recommended amendments.

7. Are there elements of the Hazardous Materials Table (HMT) at part 172 that impose an undue burden on affected stakeholders? Are there particular materials whose safety risks do not merit inclusion within the HMT? Are there assignments of requirements (either via hazard class, packing group, special provisions, packaging or quantity limitations, or vessel stowage restrictions) which are not commensurate with the safety risks posed by specific materials? Please identify any specific regulatory amendments meriting consideration, as well as the technical, safety, and economic reasons (including the categories and number of affected entities) supporting those recommended amendments.

8. Do any of the special provisions to the HMT listed at § 172.102 as applied to one or more materials listed in the HMT impose undue burdens on affected stakeholders? Please identify any specific regulatory amendments meriting consideration, as well as the technical, safety, and economic reasons (including the categories and number of affected entities) supporting those recommended amendments.

9. Are there any HMR provisions at part 172 pertaining to shipping paper documentation (subpart C), hazard marking (subpart D), labeling (subpart E), placarding (subpart F), and emergency response information (subpart G) that may be revised or modernized to assist stakeholders in efficiently communicating the hazard of materials transported? Please identify any specific regulatory amendments meriting consideration, as well as the technical, safety, and economic reasons (including the categories and number of affected entities) supporting those recommended amendments.

10. Do any of the HMR provisions at part 172, subpart H, pertaining to training impose an undue burden on affected stakeholders? Please identify any specific regulatory amendments meriting consideration, as well as the technical, safety, and economic reasons (including the categories and number of affected entities) supporting those recommended amendments.

11. Do HMR requirements at part 172, subpart I, governing the safety and security plans impose an undue burden on affected stakeholders? Please identify any specific regulatory amendments meriting consideration, as well as the technical, safety, and economic reasons (including the categories and number of affected entities) supporting those recommended amendments.

12. Would amendment of the various exceptions (e.g., for de minimis quantities, light bulbs, etc.) set forth in the HMR (e.g., in part 173, subparts A and D) remove or alleviate undue burdens on affected stakeholders? Please identify any specific regulatory amendments meriting consideration, as well as the technical, safety, and economic reasons (including the categories and number of affected entities) supporting those recommended amendments.

13. Do any of the HMR requirements at part 173, subpart B, governing preparation of hazardous materials for transportation impose an undue burden on affected stakeholders? Please identify any specific regulatory amendments meriting consideration, as well as the technical, safety, and economic reasons (including the categories and number of affected entities) supporting those recommended amendments.

14. Do any of the classification and packaging requirements for Class 1 explosive materials set forth at part 173, subpart C, and elsewhere in the HMR impose an undue burden on affected stakeholders? Please identify any specific regulatory amendments meriting consideration, as well as the technical, safety, and economic reasons (including the categories and number of affected entities) supporting those recommended amendments.

15. Do any of the classification and packaging requirements for Class 7 radioactive materials set forth at part 173, subpart I, and elsewhere in the HMR impose an undue burden on affected stakeholders? Please identify any specific regulatory amendments meriting consideration, as well as the technical, safety, and economic reasons (including the categories and number of affected entities) supporting those recommended amendments.

16. Do any of the classification and packaging requirements for hazardous gases set forth at part 173, subpart G, and elsewhere in the HMR impose an undue burden on affected stakeholders? Please identify any specific regulatory amendments meriting consideration, as well as the technical, safety, and economic reasons (including the categories and number of affected entities) supporting those recommended amendments.

17. Do any of the classification and packaging requirements for hazardous materials other than Class 1 and 9 materials set forth at part 173, subparts D through F, and elsewhere in the HMR impose an undue burden on affected stakeholders? Please identify any specific regulatory amendments meriting consideration, as well as the technical, safety, and economic reasons (including the categories and number of affected entities) supporting those recommended amendments.

18. Do any of the requirements for rail transportation of hazardous materials set forth at part 174 of the HMR impose an undue burden on affected stakeholders? Please identify any specific regulatory amendments meriting consideration, as well as the technical, safety, and economic reasons (including the categories and number of affected entities) supporting those recommended amendments.

19. Do any of the requirements for aircraft transportation of hazardous materials set forth at part 175 of the HMR impose an undue burden on affected stakeholders? Please identify any specific regulatory amendments meriting consideration, as well as the technical, safety, and economic reasons (including the categories and number of affected entities) supporting those recommended amendments.

20. Do any of the requirements for vessel transportation of hazardous materials set forth at part 176 of the HMR impose an undue burden on affected stakeholders? Please identify any specific regulatory amendments meriting consideration, as well as the technical, safety, and economic reasons (including the categories and number of affected entities) supporting those recommended amendments.

21. Do any of the requirements for highway transportation of hazardous materials set forth at part 177 of the HMR impose an undue burden on affected stakeholders? Please identify any specific regulatory amendments meriting consideration, as well as the technical, safety, and economic reasons (including the categories and number of affected entities) supporting those recommended amendments.

22. Do any of the specifications for hazardous materials packaging other than rail tank cars set forth at part 178 of the HMR impose an undue burden on affected stakeholders? Please identify any specific regulatory amendments meriting consideration, as well as the technical, safety, and economic reasons (including the categories and number of affected entities) supporting those recommended amendments.

23. Do any of the specifications for rail tank cars of hazardous materials set forth at part 179 of the HMR impose an undue burden on affected stakeholders? Please identify any specific regulatory amendments meriting consideration, as well as the technical, safety, and economic reasons (including the categories and number of affected entities) supporting those recommended amendments.

24. Specific to transporting liquefied natural gas (LNG) by rail tank car, PHMSA is interested in hearing from stakeholders about the possibility of any future markets for transportation of LNG by rail tank car. As such, PHMSA seeks information on the following questions. First, is there a current or potential future market for special permits to transport LNG by rail tank car? Second, is there current market demand to transport other flammable cryogenic materials, including, but not limited to, ethylene in tank cars built to the DOT-113C120W9 specifications? Note the DOT-113C120W9 rail tank car is characterized as having minimum wall thickness of the outer jacket shell and the outer jacket heads must be no less than 9/16-inch after forming, which exceeds the 7/16-inch outer jacket shell as specified in 49 CFR 179.400-8(d)(1).

25. Do any of the requirements of the HMR impose an undue burden on the transportation of any materials such as explosives used in mining, exploration, or the production of coal, or the transportation of coal combustion residuals produced from the burning of coal in coal-fired power plants or otherwise found in supply chains related to coal mining or coal-related energy generation projects?

26. Do any of the requirements for continuing qualification and maintenance of hazardous material packaging set forth at part 180 of the HMR impose an undue burden on affected stakeholders? Please identify any specific regulatory amendments meriting consideration, as well as the technical, safety, and economic reasons (including the categories and number of affected entities) supporting those recommended amendments.

Issued in Washington, DC, on May 29, 2025, under the authority delegated in 49 CFR 1.97.
Benjamin D. Kochman,
Acting Administrator.

[FR Doc. 2025-10091 Filed 6-3-25; 8:45 am]

BILLING CODE 4910-60-P